DEPARTMENT OF ENERGY

Federal Energy Regulatory Commission

[Docket No. RP04-25-000]

Texas Eastern Transmission, LP; Notice of Proposed Changes in FERC Gas Tariff

October 23, 2003.

Take notice that on October 17, 2003, Texas Eastern Transmission, LP (Texas Eastern) tendered for filing as part of its FERC Gas Tariff, Seventh Revised Volume No. 1 and First Revised Volume No. 2, the revised tariff sheets as listed on appendix A, to the filing, to become effective December 1, 2003.

Texas Eastern states that it has submitted its Annual Interruptible Revenue Reconciliation Report reflecting a credit, for the benefit of customers, of approximately $3.3 million to the ASA Deferred Account.

Texas Eastern further states that the revised tariff sheets and the Annual Interruptible Revenue Reconciliation Report contained in the filing are being filed Applicable Shrinkage Adjustment (ASA), and section 15.8, Periodic Reports, of the General Terms and Conditions of Texas Eastern's FERC Gas Tariff, Seventh Revised Volume No. 1.

Texas Eastern states that it is making this Annual ASA pursuant to section 15.6, filing earlier than the October 31 due date specified by the tariff to provide advance rate information to its markets and customers preparing for the upcoming winter.

Texas Eastern states that copies of its filing have been mailed or, if requested, emailed to all affected customers of Texas Eastern and interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Magalie R. Salas,
Secretary.

[FR Doc. E3-00132 Filed 10-29-03; 8:45 am]

BILLING CODE 6717-01-P